ENVIRONMENTAL PROTECTION AGENCY

40 CFR Part 81

[EPA-R03-OAR-2023-0419; FRL-11736-02-R3]

Redesignation of Portions of Westmoreland and Cambria Counties, Pennsylvania for the 2010 Sulfur Dioxide (SO2) National Ambient Air Quality Standards (NAAQS)

AGENCY: Environmental Protection Agency (EPA).

ACTION: Final rule.

SUMMARY: The Environmental Protection Agency (the EPA or the Agency) is finalizing the redesignation of portions of Cambria County and Westmoreland County, Pennsylvania, to “nonattainment” for the 2010 1-hour primary sulfur dioxide (SO2) national ambient air quality standard (NAAQS or standard). Westmoreland County was previously designated “attainment/ unclassifiable,” and Cambria County was designated “unclassifiable.” The EPA notified the Commonwealth of Pennsylvania of its intended redesignation of portions of Cambria and Westmoreland counties on February 17, 2023, and published a Notice of Availability (NOA) for this action on February 12, 2024. The EPA's redesignation of portions of these counties is based on modeled violations of the 2010 1-hour primary SO2 NAAQS.

DATES: This final rule is effective on January 16, 2025.

ADDRESSES: The EPA has established a docket for this redesignation under Docket ID Number EPA-R03-OAR-2023-0419. All documents in the docket are listed on the www.regulations.gov website. Although listed in the index, some information is not publicly available, e.g., confidential business information (CBI) or other information whose disclosure is restricted by statute. Certain other material, such as copyrighted material, is not placed on the internet and will be publicly available only in hard copy form. Publicly available docket materials are available through www.regulations.gov, or please contact the person identified in the FOR FURTHER INFORMATION CONTACT section for additional availability information.

The EPA has established a website for the designations for the 2010 SO2 NAAQS at www.epa.gov/sulfur-dioxide-designations/sulfurdioxide-designations-regulatory-actions. This final redesignation action, associated technical support documents, and other related information will be added to this website.

FOR FURTHER INFORMATION CONTACT: Ellen Schmitt, Planning & Implementation Branch (3AD30), Air & Radiation Division, U.S. Environmental Protection Agency, Region III, 1600 John F. Kennedy Boulevard, Philadelphia, Pennsylvania 19103. The telephone number is (215) 814-5787. Ms. Schmitt can also be reached via electronic mail at schmitt.ellen@epa.gov.

SUPPLEMENTARY INFORMATION:

I. Background and Purpose of the EPA's Final Action

The EPA is required by Clean Air Act (CAA) section 107(d) to designate all areas throughout the nation as attaining or not attaining the NAAQS within two years of the promulgation of any new or revised NAAQS. Pursuant to CAA section 107(d), the EPA must designate as “nonattainment” those areas that violate the NAAQS and those nearby areas that contribute to violations. Once an area has been designated, the EPA Administrator, under CAA section 107(d)(3), may at any time notify a state that a designation should be revised.

Under section 109 of the CAA, the EPA has established primary and secondary NAAQS for certain pervasive air pollutants and conducts periodic reviews of the NAAQS to determine whether they should be revised or whether new NAAQS should be established. The primary NAAQS represent ambient air quality standards, the attainment and maintenance of which the EPA has determined, including a margin of safety, are requisite to protect the public health. The secondary NAAQS represent ambient air quality standards, the attainment and maintenance of which the EPA has determined are requisite to protect the public welfare from any known or anticipated adverse effects associated with the presence of such air pollutant in the ambient air.

On June 22, 2010 (75 FR 35520), the EPA finalized the revision of the 1-hour primary SO2 NAAQS, codified at 40 Code of Federal Regulations (CFR) 50.17, which became effective on August 23, 2010 (hereafter referred to as the 2010 SO2 NAAQS). The 2010 SO2 NAAQS is met at an ambient air quality monitoring site (or in the case of dispersion modeling, at an ambient air quality receptor location) when the 3-year average of the annual 99th percentile of daily maximum 1-hour average concentrations is less than or equal to 75 parts per billion (ppb), as determined in accordance with appendix T of 40 CFR part 50. 40 CFR 50.17(a) and (b).

The EPA was required to designate areas throughout the country for the 2010 SO2 NAAQS by June 3, 2012. The EPA invoked a 1-year extension of the deadline to designate areas for the 2010 SO2 NAAQS, as provided for under CAA section 107, after which the Agency completed an initial round of SO2 designations for certain areas of the country on August 5, 2013 (referred to as “Round 1”).¹ In Round 1, the EPA designated Indiana County, Pennsylvania and a portion of Armstrong County, Pennsylvania as nonattainment (hereafter referred collectively as the “Indiana Area”). On January 9, 2018,² in a subsequent round of designations for the 2010 SO2 NAAQS, Westmoreland County, Pennsylvania was designated as attainment/unclassifiable, and Cambria County, Pennsylvania was designated as unclassifiable.

¹ 78 FR 47191. Effective date October 4, 2013.

² 83 FR 1098. Effective date April 9, 2018.

In 2018, during the public comment period for the proposed approval of the SO2 attainment SIP for the Indiana Area (83 FR 32606, July 13, 2018), the Sierra Club submitted a modeling analysis which claimed to also show violations of the SO2 NAAQS within portions of Westmoreland and Cambria counties due to SO2 emissions from sources located within the Indiana Area.³ In 2022, during the public comment period for the proposed partial disapproval and partial approval of the Indiana Area's attainment SIP (87 FR 15166, March 17, 2022), the EPA received additional dispersion modeling from the Sierra Club, and from Keystone-Conemaugh Projects, LLC (KEY-CON),⁴ focused on the Westmoreland and Cambria areas. The EPA also conducted its own modeling of those areas. Based on review of all modeling analyses, the EPA made the determination that there are modeled SO2 NAAQS violations outside of the existing Indiana Area, in portions of Westmoreland and Cambria counties, and accordingly notified the Governor of Pennsylvania in a letter dated February 17, 2023, of our intent to redesignate portions of Westmoreland and Cambria counties as nonattainment for the 2010 1-hour primary SO2 NAAQS, consistent with CAA section 107(d)(3)(A).⁵ On June 22, 2023, Acting Secretary for the Pennsylvania Department of Environmental Protection (PA DEP), Richard Negrin, responded to the EPA's letter but did not specify whether the Commonwealth agreed or disagreed with the EPA's determination to redesignate portions of Westmoreland and Cambria counties as nonattainment for the 2010 1-hour primary SO2 NAAQS. Instead, Pennsylvania's response included several comments questioning certain aspects of the Technical Support Document (TSD) that the EPA had developed and submitted to PA DEP with the February 17, 2023 redesignation letter. The EPA responded to the Commonwealth's comments in a January 2024 response to comments (RTC) document, which is in the docket associated with this action.⁶

³ Explained further in the NOA associated with this redesignation. See 89 FR 9817 (February 12, 2024).

⁴ KEY-CON, licensee for the Keystone Generating Station located in Armstrong County and the Conemaugh Generating station located in Indiana County, provided modeling to support its comments rebutting modeling and views presented by the Sierra Club and the EPA.

⁵ Located in the public docket for this redesignation at www.regulations.gov under Docket ID No. EPA-R03-OAR-2023-0419.

⁶ A copy of PA DEP's comments on the EPA's intended redesignation TSD and also the EPA's RTC replying to these comments, can be found in Docket No. EPA-R03-OAR-2023-0419 via www.regulations.gov.

The EPA is not required under CAA section 107(d)(3) to seek public comment during the redesignations process, but we elected to do so for this area to provide the public with an opportunity to give input for the EPA's consideration before promulgating any final redesignation. The EPA published a NOA for this action in the Federal Register on February 12, 2024 (89 FR 9815). Upon publication of the NOA in the Federal Register, a 45-day public comment period began. This comment period closed on March 28, 2024, and yielded comments from seven commenters. A copy of the EPA's responses to the comments received from the public is also located in the docket for this action.

II. EPA's Redesignation Decision and Supporting Air Quality Information

A. SO2 Monitoring and Modeling Considerations

The 1-hour primary SO2 standard is violated at an ambient air quality monitoring site (or in the case of dispersion modeling, at an ambient air quality receptor location) when the 3-year average of the annual 99th percentile of the daily maximum 1-hour average concentrations exceeds 75 ppb, as determined in accordance with appendix T of 40 CFR part 50. The EPA also believes that in certain cases, including when SO2 monitors are lacking, air dispersion modeling is an appropriate tool to determine whether an area is in attainment, as discussed in the EPA's document titled, “SO2 NAAQS Designations Modeling Technical Assistance Document” (Modeling TAD).⁷ The Modeling TAD provides nonbinding recommendations on how to appropriately and sufficiently model ambient air in proximity to an SO2 emission source to establish air quality data for comparison to the 2010 primary SO2 NAAQS for the purposes of designations. For a short-term 1-hour standard, dispersion modeling of stationary sources can be the most technically appropriate, efficient, and effective because it accounts for fairly infrequent combinations of meteorological and source operating conditions that can contribute to peak ground-level concentrations of SO2. The EPA's Guideline on Air Quality Models, found at appendix W to 40 CFR part 51, provides recommendations on modeling techniques and guidance for estimating pollutant concentrations to assess control strategies and determine emission limits.

⁷ A copy is located in the docket via www.regulations.gov, Docket ID No. EPA-R03-OAR-2023-0419.

B. The Basis of Redesignating Portions of Cambria and Westmoreland Counties, Pennsylvania to Nonattainment for the 2010 SO2 NAAQS

Information and data providing the basis for this action are provided in a designations TSD included in the docket for this action ⁸ and can also be found online at www.epa.gov/sulfur-dioxide-designations/sulfur-dioxide-designations-regulatory-actions. Additionally, other relevant documents and files regarding this SO2 redesignation, including PA DEP's comments on the EPA's TSD, the EPA's RTC replying to these comments, and public comments are available for review in the public docket for this action. The information can also be reviewed online at www.epa.gov/sulfur-dioxide-designations/sulfur-dioxide-designations-regulatory-actions.

⁸ Docket ID No. EPA-HQ-OAR-2023-0419 at www.regulations.gov.

C. Factors Considered in Determining Nonattainment Area Boundary

The EPA has issued multiple guidance documents for performing SO2 designations, the most recent of which is a September 5, 2019 guidance from Peter Tsirigotis, Director, U.S. EPA, Office of Air Quality Planning and Standards, to Regional Air Division Directors, U.S. EPA Regions 1-10.⁹ This memorandum supplements, where necessary, prior designations guidance documents on area designations for the 2010 1-hour primary SO2 NAAQS issued on March 24, 2011, March 20, 2015, and July 22, 2016. The September 2019 memorandum identifies evaluation factors in determining whether areas are in violation of the 2010 SO2 NAAQS and factors that the EPA intends to assess in determining the boundaries for such areas. These factors include: (1) air quality characterization via ambient monitoring or dispersion modeling results; (2) emissions-related data; (3) meteorology; (4) geography and topography; and (5) jurisdictional boundaries.

⁹ “Area Designations for the 2010 Primary Sulfur Dioxide National Ambient Air Quality Standard—Round 4,” memorandum to Regional Air Division Directors, Regions 1-10, from Peter Tsirigotis, dated September 5, 2019, available at: www.epa.gov/sites/production/files/2019-09/documents/round_4_so2_designations_memo_09-05-2019_final.pdf.

The EPA's modeling indicates that portions of Westmoreland and Cambria counties are violating the 2010 1-hour SO2 NAAQS, and the Agency's detailed evaluation of the modeled violations, contributing sources, and intended area boundaries based on the weight of evidence of the previously identified factors are included in the TSD, which is located in the docket for this action. The EPA's boundaries of the relevant area encompass Lower Yoder Township in Cambria County, Pennsylvania and St. Clair Township, Seward Borough, and New Florence Borough in Westmoreland County, Pennsylvania.¹⁰ A map showing these boundaries is included in the final TSD.¹¹

¹⁰ The remaining portions of Cambria County and Westmoreland County will retain the current designations.

¹¹ The final boundaries are the same as the EPA's initial intended boundaries.

The purpose of this final action is to announce and promulgate EPA's area redesignation of a portion of Westmoreland County, Pennsylvania from attainment/unclassifiable to nonattainment and a portion of Cambria County, Pennsylvania from unclassifiable to nonattainment for the 2010 1-hour primary SO2 NAAQS, creating a new area called the “Cambria-Westmoreland Area.”

The issuance of this final redesignation will require the Commonwealth of Pennsylvania to undertake certain planning requirements to reduce SO2 concentrations within this newly redesignated nonattainment area, including, but not limited to, the requirement to submit within 18 months of redesignation, a revision to the Pennsylvania SIP that provides for attainment of the 2010 1-hour primary SO2 NAAQS as expeditiously as practicable, but no later than five years after the effective date of redesignation to nonattainment.

III. Environmental Justice Concerns

When the EPA establishes a new or revised NAAQS, the CAA requires the EPA to designate all areas of the U.S. as either nonattainment, attainment, or unclassifiable. This action addresses designation determinations for certain areas for the 2010 SO2 NAAQS. Area designations address environmental justice concerns by ensuring that the public is properly informed about the air quality in an area. In locations where air quality does not meet the NAAQS, the CAA requires relevant state authorities to initiate appropriate air quality management actions to ensure that all those residing, working, attending school, or otherwise present in those areas are protected, regardless of minority and economic status.

IV. Statutory and Executive Order Reviews

A. Executive Order 12866: Regulatory Planning and Review and Executive Order 13563: Improving Regulation and Regulatory Review

Under Executive Orders 12866 (58 FR 51735, October 4, 1993) and 13563 (76 FR 3821, January 21, 2011), this action is exempt and, therefore, is not subject to review by the Office of Management and Budget.

B. Paperwork Reduction Act (PRA)

This action does not impose an information collection burden under the PRA. This action is a redesignation of portions of two counties to nonattainment and does not contain any information collection activities.

C. Regulatory Flexibility Act (RFA)

This action is not subject to the RFA. The RFA applies only to rules subject to notice and comment rulemaking requirements under the Administrative Procedure Act (APA), 5 U.S.C. 553, or any other statute. Section 107(d)(2)(B) of the CAA explicitly provides that designations are exempt from the notice-and-comment provisions of the APA. In addition, designations under CAA section 107(d) are not among the list of actions that are subject to the notice-and-comment rulemaking requirements of CAA section 307(d).

D. Unfunded Mandates Reform Act (UMRA)

This action does not contain any unfunded mandate as described in UMRA, 2 U.S.C. 1531-1538, and does not significantly or uniquely affect small governments. The action imposes no enforceable duty on any state, local or tribal governments or the private sector.

E. Executive Order 13132: Federalism

This action also does not have federalism implications. It will not have substantial direct effects on the states, on the relationship between the national government and the states, or on the distribution of power and responsibilities among the various levels of government. The division of responsibility between the Federal Government and the states for purposes of implementing the NAAQS is established under the CAA.

F. Executive Order 13175: Consultation and Coordination With Indian Tribal Governments

This action does not have tribal implications. It will neither impose substantial direct compliance costs on Federally recognized tribal governments, nor preempt tribal law. Thus, Executive Order 13175 does not apply to this action.

G. Executive Order 13045: Protection of Children From Environmental Health and Safety Risks

The EPA interprets Executive Order 13045 as applying to those regulatory actions that concern environmental health or safety risks that the EPA has reason to believe may disproportionately affect children, per the definition of “covered regulatory action” in section 2-202 of the Executive Order. This action is not subject to Executive Order 13045 because it does not establish an environmental standard intended to mitigate health or safety risks.

H. Executive Order 13211: Actions Concerning Regulations That Significantly Affect Energy Supply, Distribution, or Use

This action is not subject to Executive Order 13211 because it is not a significant regulatory action under Executive Order 12866.

I. National Technology Transfer and Advancement Act (NTTAA)

This rule does not involve technical standards.

J. Executive Order 12898: Federal Actions To Address Environmental Justice in Minority Populations and Low-Income Populations

Executive Order 12898 (59 FR 7629, February 16, 1994) directs Federal agencies, to the greatest extent practicable and permitted by law, to make environmental justice part of their mission by identifying and addressing, as appropriate, disproportionately high and adverse human health or environmental effects of their programs, policies, and activities on minority populations (people of color and/or Indigenous peoples) and low-income populations. The EPA believes that this action does not have disproportionately high and adverse human health or environmental effects on minority populations, low income populations and/or indigenous peoples, as specified in Executive Order 12898 (59 FR 7629, February 16, 1994). This action, on which the EPA offered public notice and comment, changes the air quality designation of an area and triggers an obligation on the part of the Commonwealth to develop an implementation plan to improve air quality in the area so that it meets the 2010 SO2 NAAQS. A forthcoming implementation plan by the Commonwealth will also be available for public notice and comment.

K. Congressional Review Act (CRA)

This action is subject to the CRA, and the EPA will submit a rule report to each House of the Congress and to the Comptroller General of the United States. This action is not a “major rule” as defined by 5 U.S.C. 804(2).

L. Judicial Review

Under section 307(b)(1) of the CAA, petitions for judicial review of this action must be filed in the United States Court of Appeals for the appropriate circuit by February 18, 2025. Filing a petition for reconsideration by the Administrator of this final rule does not affect the finality of this action for the purposes of judicial review nor does it extend the time within which a petition for judicial review may be filed, and shall not postpone the effectiveness of such rule or action. This action may not be challenged later in proceedings to enforce its requirements. See CAA section 307(b)(2).

V. Statutory Authority

The statutory authority for this action is provided by 42 U.S.C. 7401, et seq.

List of Subjects in 40 CFR Part 81

Environmental protection, Air pollution control, Carbon monoxide, Intergovernmental relations, Nitrogen dioxide, Ozone, Particulate matter, Reporting and recordkeeping requirements, Sulfur oxides, Volatile organic compounds.

Michael S. Regan,
Administrator.

For the reasons stated in the preamble the Environmental Protection Agency amends title 40 CFR part 81 as follows:

PART 81—DESIGNATION OF AREAS FOR AIR QUALITY PLANNING PURPOSES

1. The authority citation for part 81 continues to read as follows:

Authority: 42 U.S.C. 7401, et. seq.

Subpart C—Section 107 Attainment Status Designations

2. Amend § 81.339, in the table titled “Pennsylvania-2010 Sulfur Dioxide NAAQS [Primary]” by:

a. Removing the entry “Cambria County” and adding in its place the entry “Cambria (part)”;

b. Adding the entry “Cambria-Westmoreland Area Lower Yoder Township in Cambria County and St. Clair Township, Seward Borough, and New Florence Borough in Westmoreland County” immediately before the entry “Indiana, PA.”; and

c. Revising the entry “Westmoreland County;”.

The revisions and additions read as follows:

* * * * *

Pennsylvania—2010 Sulfur Dioxide NAAQS
[Primary]
Designated area | Designation: Date | Designation: Type
* * * * * * *
Cambria (part) | 1/16/2025 | Unclassifiable.
* * * * * * *
Cambria-Westmoreland Area Lower Yoder Township in Cambria County and St. Clair Township, Seward Borough, and New Florence Borough in Westmoreland County | 1/16/2025 | Nonattainment.
* * * * * * *
Westmoreland County (part) | 1/16/2025 | Attainment/Unclassifiable
* * * * * * *

* * * * *

[FR Doc. 2024-29229 Filed 12-16-24; 8:45 am]

BILLING CODE 6560-50-P